DEPARTMENT OF ENERGY

Federal Energy Regulatory Commission

[Docket No. RP00-333-003]

Crossroads Pipeline Company; Notice of Compliance Filing

August 12, 2002.

Take notice that on August 2, 2002, Crossroads Pipeline Company (Crossroads) tendered for filing as part of its FERC Gas Tariff, First Revised Volume No. 1, the revised tariff sheets listed on Appendix A, to the filing.

Crossroads states that this filing is being submitted in compliance with the Commission's July 3, 2002 Order (July 3 Order) in Docket No. RP00-333. In the July 3 Order, the Commission held that Crossroads' August 9, 2001 filing in this docket generally complied with the requirements of Order No. 637. However, the Commission required that Crossroads make certain compliance changes by filing actual tariff sheets within 30 days of the date of issuance of the July 3 Order. The instant filing reflects the required compliance changes.

Any person desiring to protest said filing should file a protest with the Federal Energy Regulatory Commission, 888 First Street, NE., Washington, DC 20426, in accordance with Section 385.211 of the Commission's Rules and Regulations. All such protests must be filed on or before August 19, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourage electronic filings. See, 18 CFR 385.2001(a)(1)(iii) and the instructions on the Commission's Web site under the “e-Filing” link.

Linwood A. Watson, Jr.,
Deputy Secretary.

[FR Doc. 02-20832 Filed 8-15-02; 8:45 am]

BILLING CODE 6717-01-P